ENVIRONMENTAL PROTECTION AGENCY

40 CFR Part 52

[EPA-R03-OAR-2010-0594; FRL-9268-1]

Approval and Promulgation of the Air Quality Implementation Plans; Maryland; Control of Volatile Organic Compound Emissions From Industrial Solvent Cleaning Operations

AGENCY: Environmental Protection Agency (EPA).

ACTION: Final rule.

SUMMARY: EPA is taking final action to approve a revision to Maryland's State Implementation Plan (SIP). The revision was submitted by the Maryland Department of the Environment (MDE) to establish and require reasonably available control technology (RACT) for industrial solvent cleaning operations for sources of volatile organic compounds (VOCs) covered by control techniques guidelines (CTG). This amendment reduces VOC emissions from industrial solvent cleaning operations which will help Maryland attain and maintain the National Ambient Air Quality Standards (NAAQS) for ozone. EPA is approving this revision in accordance with the requirements of the Clean Air Act (CAA).

DATES: Effective Date: This final rule is effective on March 24, 2011.

ADDRESSES: EPA has established a docket for this action under Docket ID Number EPA-R03-OAR-2010-0431. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at Maryland Department of the Environment, 1800 Washington Boulevard, Suite 705, Baltimore, Maryland 21230.

FOR FURTHER INFORMATION CONTACT: Jacqueline Lewis, (215) 814-2037, or by e-mail at lewis.jacqueline@epa.gov.

SUPPLEMENTARY INFORMATION:

I. Background

Throughout this document, whenever “we,” “us,” or “our” is used, we mean EPA. On September 29, 2010, EPA published both a notice of proposed rulemaking (NPR) (75 FR 60013) and a direct final rule (DFR) (75 FR 59973) for the State of Maryland. The NPR proposed approval of a formal SIP revision (#10-03) submitted by Maryland on April 22, 2010, to address sources of VOC emissions covered by EPA's CTG: Industrial Cleaning Solvents (see EPA 453/R-06-001, September 2006). This SIP revision adds a new regulation .09-1 under COMAR 26.11.19 (Volatile Organic Compounds from Specific Processes). An explanation of the CAA's RACT requirements for the 1997 8-hour ozone NAAQS as they apply to Maryland and EPA's rationale for approving this SIP revision was provided in the DFR and will not be restated here. Timely adverse comments were submitted on EPA's September 29, 2010 NPR. A summary of the comment and EPA's response is provided in Section II of this document.

II. Summary of Public Comment and EPA Response

Comment: The commenter opposed EPA's approval of this regulation unless Maryland specifically exempts coatings, ink, resin and adhesive manufacturing from their Industrial Solvent Cleaning rule. The commenter states that Maryland already has regulations that limit VOC emissions from these manufacturing operations and is concerned that this rule would be burdensome for these manufacturing operations. The commenter notes that COMAR 26.11.19.15 regulates coatings, ink, resin, and adhesive manufacturing operations and these operations should not be subject to the general Industrial Solvent Cleaning rule.

Response: As an initial matter, we note that EPA cannot disapprove the regulations merely because they are more stringent than the commenter would prefer. The CAA provides the States with great discretion in determining the controls necessary to attain and maintain the NAAQS and EPA must approve the State's choice into the SIP so long as they are consistent with the CAA. However, we note that the commenter misinterprets Maryland's regulations, which we believe address the commenter's concerns. Maryland specifically states in COMAR 26.11.19.09-1A(6)(b)(ii) that this regulation does not include cleaning operations at sources subject to any other VOC regulation in subtitle 11. Further, COMAR 26.11.19.09-1A(6)(b)(viii) states that this regulation does not include cleaning of resin, coating, ink, and adhesive mixing, molding, and application equipment. Because COMAR 26.11.19.15 applies to paints, resin and adhesive manufacturing, those cleaning operations are not subject to the regulation EPA is approving into the SIP through this action. Additionally, cleaning operations involving coatings and inks which are covered under many other sections of Subtitle 11 are not subject to the regulation EPA is approving through this action.

III. Final Action

EPA is approving Maryland's SIP revision because it meets the requirement for establishing RACT for sources of VOC emissions covered by EPA's Industrial Cleaning Solvents CTG.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by April 25, 2011. Filing a petition for reconsideration by the Administrator of this final rule does not affect the finality of this action for the purposes of judicial review nor does it extend the time within which a petition for judicial review may be filed, and shall not postpone the effectiveness of such rule or action.

This action pertaining to Maryland's adoption of RACT requirements for VOC emissions from industrial cleaning solvents may not be challenged later in proceedings to enforce its requirements. (See section 307(b)(2).)

List of Subjects in 40 CFR Part 52

Environmental protection, Air pollution control, Incorporation by reference, Ozone, Reporting and recordkeeping requirements, Volatile organic compounds.

Dated: February 8, 2011.
W.C. Early,
Acting Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by adding an entry for COMAR 26.11.19.09-1 to read as follows:

§ 52.1070 Identification of plan.

* * * * *

(c) * * *

EPA-Approved Regulations in the Maryland SIP
Code of Maryland administrative regulations (COMAR) citation | Title/subject | State effective date | EPA approval date | Additional explanation/ citation at 40 CFR 52.1100
* * * * * * *
26.11.19 Volatile Organic Compounds from Specific Processes
* * * * * * *
26.11.19.09-1 | Control of VOC Emissions from Industrial Solvent Cleaning Operations Other Than Cold and Vapor Degreasing | 4/19/10 | 2/22/11 [Insert page number where the document begins] | New Regulation.
* * * * * * *

* * * * *

[FR Doc. 2011-3719 Filed 2-18-11; 8:45 am]

BILLING CODE 6560-50-P